DEPARTMENT OF AGRICULTURE

Forest Service

Idaho Cobalt Project Plan of Operations, Salmon-Challis National Forest, Lemhi County, ID

AGENCY: Forest Service, USDA.

ACTION: Revised Notice of Intent to Prepare Environmental Impact Statement.

SUMMARY: The Forest Service, as the lead Federal agency, previously published in the Federal Register (66 FR 46992-46994, September 10, 2001) a Notice of Intent to prepare an Environmental Impact Statement (EIS) to disclose the environmental effects of the Idaho Cobalt Project. The Idaho Cobalt Project is a proposed plan of operations to develop an underground cobalt-copper-gold mine on the Salmon/Cobalt Ranger District of the Salmon-Challis National Forest in Lemhi County, Idaho. The Forest Service Handbook 1909.15, Chapter 21.2, requires this revised notice in the Federal Register to inform the public of a major change to the applicant's plan and provide revised dates of when the draft and final EIS will be completed. The major plan change is described in the following paragraph. The revised dates of when the draft and final EIS will be available can be found in the DATES section of this notice.

The project proponent, Formation Capital Corporation U.S. (Formation), submitted its proposed plan of operation (Plan) to the Forest Service in January 2001. That Plan described the major components of the project, including production adits and declines, waste rock disposal areas, processing plant, process water and tailings disposal methods, haul roads, and ancillary support facilities on National Forest System Lands. Since 2001, Formation has provided the Forest Service with a number of clarifications and minor revisions to their Plan, which, for the most part, did not alter the basic project description contained in the initial Federal Register notice. However, one proposed revision to the Plan's handling of mine and process water constituted a major change, which necessitated publishing this revised notice. Instead of land-applying the water as originally proposed, Formation plans to install a water treatment system and discharge the mine/process water into Big Deer Creek under a National Pollutant Discharge Elimination System (NPDES) permit. This change would reduce the surface area affected by mining operations from 251 acres to 149 acres.

Formation submitted an NPDES permit application to the U.S. Environmental Protection Agency (EPA) on May 25, 2006 to discharge treated water into Big Deer Creek. The permit is a new source subject to the requirements of 40 CFR Part 440. As described in 40 CFR Part 122.29 and EPA's NEPA implementing regulations in 40 CFR Part 6, a new source is subject to compliance with NEPA prior to taking a final action on the NPDES permit.

EPA entered into a Memorandum of Understanding (MOU) with the Forest Service on August 8, 2006 as a cooperating agency in the EIS process. The MOU describes the roles, responsibilities, and NEPA coordination amongst the two agencies.

Given the public scoping that has already been conducted for this project, the extensive list of significant issues generated as a result of that scoping, and the impending completion of the Draft EIS, the Forest Service will not initiate additional public scoping for this notice. Public comments will be accepted and considered following publication of the Draft EIS.

DATES: The Draft EIS is expected to be available for a 45-day public review and comment period the first quarter of 2007. EPA will inform the public of the start of the review and comment period by publishing a Notice of Availability of the Draft EIS in the Federal Register. Completion of the Final EIS is anticipated by July 31, 2007.

FOR FURTHER INFORMATION CONTACT: Ray Henderson, Project Coordinator, Salmon-Challis National Forest, 1206 S. Challis Street, Salmon, Idaho 83467, Phone (208) 756-5100. Questions on the NPDES permit should be directed to Rob Rau, EPA Region 10, 1200 6th Ave., Seattle, Washington 98101, Phone (206) 553-6285.

If you wish to be placed on the project mailing list or receive additional information, contact the Salmon-Challis National Forest Project Coordinator identified above.

SUPPLEMENTARY INFORMATION: Project Description: Formation Capital Corporation U.S. (Formation) submitted a Plan of Operations for the proposed Idaho Cobalt Project to the Salmon-Challis National Forest in January 2001. The Plan, which has subsequently been modified by Formation on a number of occasions, most recently in a June 2006 revision, is summarized as follows:

The proposed Idaho Cobalt Project would consist of developing an 800-ton per day mine and mill complex. The project would involve mining cobalt-copper-gold reserves with an annual production rate of 280,000 tons of ore at full production. Current reserves and resources would allow for a ten-year mine life. The ore would be mined from two deposits, the Ram and the Sunshine and conveyed to a mill situated on the nearby Big Flat plateau. Underground mining methods are proposed, and a flotation mill would be used to process ore from the mine. At full production, the mill would produce approximately 32 tons of concentrate and 768 tons of tailings per day. The concentrate would be shipped to an off-site hydrometallurgical facility for metal recovery.

Ram and Sunshine ore would be hauled to the mill with trucks, where the ore would be stockpiled. The approximate haul distance to the proposed site of the mill from the Ram portal is 2.8 miles and 1.5 miles from the Sunshine portal. In the latter years of the mine life an overhead tram from the Ram portal may be used to transport ore to the mill. The tram would consist of suspended car traveling on track cables, driven by a haul cable and suspended on towers. The tramcar would be loaded from a hopper at the Ram portal, and the car would discharge into a hopper at the mill crusher.

The proposed tailings disposal facility and the water management reservoir are also located on the Big Flat, east of the mill. Disposal of tailings in this area via a dry stacking method was proposed by Formation to take advantage of relatively flat topography, avoidance of wetlands, suitable foundation soils, elimination of the need for a tailings dam, and distance from active drainages and streams. Approximately 60 percent of the tailings produced would be required underground as backfill. The backfill tailings would be dewatered to produce a paste and have cement added for strength. The paste would be pumped from the mill site to the Ram in a pipeline.

Mine and mill process waters would be managed and recycled in the process circuit using a lined water management reservoir as storage. Excess precipitation and mine water would be treated and discharged in accordance with an NPDES permit. Treatment would consist of pH adjustment, precipitation and filtration for metals removal followed by reverse osmosis membrane separation as a polishing step and to remove nitrate, sulfate and other constituents. Treated water is projected to meet effluent limits at the end of the discharge pipe. The project as proposed by Formation would disturb 149 acres of National Forest Land.

Power for the project would be secured from an existing power line delivering power to the nearby Blackbird Mine. Emergency power would be supplied with diesel generating equipment located at the main portals and at the mill.

It is anticipated that most of the project employees would live in the Salmon area. Employees would be transported to the project site by buses or vans assigned to personnel. The proposed transportation route for the employees is via the Williams Creek Summit, along the Williams Creek road, the Deep Creek road, the Panther Creek road and the Blackbird Creek road. The transportation route for mine supplies and the concentrates would also be via Williams Creek Summit. The West Panther and South Panther Roadless Areas lie to the north, west and east of the ICP. Proposed activities in the company and agency alternatives would utilize upgraded existing and to a lesser degree new roads within the designated roadless area. Up to eight acres of disturbance within the designated roadless area would occur under the action alternatives.

There would be three main phases in the life of the Idaho Cobalt Project: the construction phase, the production phase, and the reclamation phase. There would also be concurrent reclamation in the construction and production phases as existing disturbed areas or new disturbance is reclaimed post-use. The construction phase would include upgrading 23.2 miles of existing roads, and construction of 2.7 miles of new roads, construction of the portals and waste rock dumps, the mill site, power line and substation and the tailings disposal site. Soil stockpile areas, stormwater diversion ditches and borrow areas would also be included in the surface disturbance.

The production phase would bring the mill on line at 400-tons per day increasing to 800-tons per day as the underground Ram mine expands. Each of the project components is integral to the whole operation and therefore there would be limited opportunities for concurrent reclamation. However, there would be concurrent reclamation in some areas when active use stops. The reclamation phase would include final shaping of waste rock dumps, sealing mine portals, mill demolition, power line and substation dismantling, tailings disposal area shaping and revegetation, water management reservoir reclamation, and road reclamation.

Cobalt is a strategic and industrial metal with a diverse range of uses. The largest single use is in alloys for air and land-based gas turbine engines. The fastest growing usage is in the battery industry for cell phones, pagers, portable computers and gasoline-electric hybrid power automobiles. Cobalt is used in computer hard disk drives, semiconductors, magnetic data storage and solar collectors. It is also used as a component in the effort to reduce air pollution, as it is a catalyst for removing sulfur from oil to provide for clean burning fuels and has important medical uses as well.

Proposed Action and Regulatory Requirements: The Forest Service decision to be made in response to Formation's Plan is described by regulation at 36 CFR 228.5 and includes: (a) Approve the project as proposed, (b) Notify the operator of changes or additions to the plan of operations deemed necessary to meet the purpose of the regulations.

These regulations also direct the Forest Service to comply with the requirements of the National Environmental Policy Act (NEPA) in connection with each Plan of Operation. In this regard, the Salmon-Challis Forest Supervisor has determined that an EIS is required to support a decision on the Idaho Cobalt Project. The EIS will analyze the direct, indirect, and cumulative environmental effects of the proposed Plan of Operation and other reasonable alternatives including mitigation, monitoring and reclamation measures designed to minimize adverse effects.

In order to implement the project, the proponent, Formation, must obtain approval or conduct consultation with several other federal, state, and local regulatory agencies. These agencies include: U.S. Environmental Protection Agency, U.S. Fish and Wildlife Service, National Marine Fisheries Service, Army Corps of Engineers, Idaho Department of Environmental Quality, Idaho Department of Water Resources, Idaho State Historic Preservation Officer and Lemhi County, Idaho.

The Salmon Forest Plan provides guidance for management activities within the potentially affected area through its goals, objectives, standards and guidelines, and management area direction. The proposal would occur within Management Area 5B. Management emphasis in this area is on producing long-term timber outputs through a moderate level of investment in regeneration and thinning. It recognizes the potential for high-value locatable mineral occurrence and probable development. The Forest Plan directs that exploration, location, leasing and development of energy and non-energy minerals resources be coordinated with other resources.

Under the United States Mining Laws of May 10, 1872, as amended (30 U.S.C. 22), United States citizens and corporations have the right to search for and develop minerals upon public lands, including National Forest Systems lands, open to mineral entry. Forest Service regulations (36 CFR 228, Subpart A) require that the agency work with mineral operators to minimize or eliminate adverse environmental impacts from mineral activities on National Forest System lands.

Public Participation: The Forest Service held an initial public meeting to provide information on the Idaho Cobalt Project on July 20, 2001, at the City Center in Salmon, Idaho. The Forest issued a Notice of Intent (NOI) to prepare an EIS for the proposed mining project in the Federal Register on September 10, 2001. The NOI invited comments on FCC's proposed Plan of Operations and the Forest's environmental analysis process for the proposed Project. The Forest held public scoping meetings on October 10, 2001, in Challis, Idaho and October 11, 2001 in Salmon, Idaho.

The scoping process and subsequent environmental analysis, to date, have identified the following significant issues:

1. Blackbird Mine CERCLA Remediation & Restoration—What is the relationship between the proposed Idaho Cobalt Project and the current program to remediate the environmental damage at the Blackbird Mine and to re-establish an anadromous fishery in Panther Creek?

2. Surface Water Quality—What is the potential for adverse impacts to water quality downstream of project facilities from the proposed mining activities, including development of acid mine drainage and mobilization of heavy metals from geologic materials exposed by the proposed mining activities, and how would water quality be maintained and beneficial uses protected?

3. Groundwater Quality—What is the relationship of the aquifer systems between the proposed project and surrounding areas, particularly the Blackbird Mine and receiving streams? What is the existing quality of groundwater in the project area and how would the project affect existing groundwater quality?

4. Water Use, Management, Treatment and Disposal—How would surface water and groundwater quality monitoring be conducted to detect and allow for the correction of any water quality problems resulting from the proposed mining activities? What water management and treatment systems would be in place to assure no adverse impacts to water quality or quantity?

5. Sediment Delivery (Storm Water Management)—What are the potential effects on water quality from accelerated erosion and sedimentation, in consideration of surface disturbance associated with the proposed mining operations and the existing effects of the Clear Creek wildfire of the summer of 2000?

6. Roads and Access—Opportunities exist to improve the transportation system on the project site and the access roads including reclamation of existing roads not meeting Forest standards.

7. Transportation of Product, Chemicals, and Fuel—What is the potential for adverse impacts to water quality from accidental spills of hazardous materials along the transportation route?

8. Socio-Economics—What are the potential impacts to local communities, tax base and infrastructure from the proposed project?

9. Vegetation/Reclamation—What effects would the Idaho Cobalt Project have on vegetation, particularly the natural recovery of the area following the 2000 Clear Creek fire?

10. Wetlands and Other Waters of the U.S.—What are the impacts to wetlands from the Idaho Cobalt Project?

11. Fish Populations and Habitat of Concern—Would special status fish species and their habitat (threatened, endangered, sensitive) or species whose populations or habitat are present be adversely affected by the proposed mining activities?

12. Air Quality/Visual Resource/Wilderness Resources—Would there be impacts to air quality, visual resources or the nearby wilderness?

13. Wildlife Populations and Habitat of Concern—

14. Cultural Resources and Tribal Trust Responsibilities—Are there cultural, historical or heritage resources in project area and would they be affected by the proposed Plan.

15. Planning and Land Use—How would the proposed mining activities affect other Forest activities and would any changes be required to the Forest Plan.

The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Alternatives: The Forest Service will consider a range of alternatives in the EIS including a no action alternative and modifications to the proponent's Plan that would minimize risk of impacts to the environment, improve public safety and mitigate potential effects to water quality, wetlands, wildlife and other resources. Analysis of alternatives will evaluate alternative facility locations, facility design components, operational procedures and technologies. For example alternatives to the location for the tailings disposal facility, to operational and post closure water management and to water treatment technologies will be evaluated. Mitigation measures that would improve access road safety, increase monitoring requirements and modify reclamation methods will also be considered. The range of alternatives would result in surface disturbance of up to approximately 328 acres.

Responsible Official: I am the responsible official for this Environmental Impact Statement. My address is Salmon-Challis National Forest, 1206 S. Challis Street, Salmon, Idaho 83467.

Dated: October 24, 2006.
William A. Wood,
Forest Supervisor, Salmon-Challis National.

[FR Doc. E6-18362 Filed 10-31-06; 8:45 am]

BILLING CODE 3410-11-P